DEPARTMENT OF TRANSPORTATION

Office of the Secretary

Application of Vision Airlines, Inc., for Certificate Authority

AGENCY: Department of Transportation.

ACTION: Notice of Order To Show Cause (Order 2007-3-24) Docket OST-2004-19518.

SUMMARY: The Department of Transportation is directing all interested persons to show cause why it should not issue an order finding Vision Airlines, Inc. fit, willing, and able, and awarding it a certificate of public convenience and necessity to engage in interstate scheduled air transportation of persons, property, and mail.

DATES: Persons wishing to file objections should do so no later than.

ADDRESSES: Objections and answers to objections should be filed in Docket OST-2004-19518 and addressed to U.S. Department of Transportation, Docket Operations, (M-30, Room PL-401), 400 Seventh Street, SW., Washington, DC 20590, and should be served upon the parties listed in Attachment A to the order.

FOR FURTHER INFORMATION CONTACT: Damon D. Walker, Air Carrier Fitness Division (X-56, Room 6401), U.S. Department of Transportation, 400 Seventh Street, SW., Washington, DC 20590, (202) 366-7785.

Dated: March 30, 2007.
Andrew B. Steinberg,
Assistant Secretary for Aviation and International Affairs.

[FR Doc. E7-6336 Filed 4-4-07; 8:45 am]

BILLING CODE 4910-62-P